GENERAL SERVICES ADMINISTRATION

48 CFR Part 501

[GSAR Case 2022-G518; Docket No. GSA-GSAR-2023-0021; Sequence No. 1]

General Services Administration Acquisition Regulation: Update to OMB Approval Table for Paperwork Reduction Act

AGENCY: Office of Acquisition Policy, General Services Administration (GSA).

ACTION: Final rule; technical amendment.

SUMMARY: The General Services Administration is issuing this final rule as a technical amendment to the General Services Administration Acquisition Regulation to update the table of approved acquisition related information collections from the Office of Management and Budget under the Paperwork Reduction Act.

DATES: Effective September 8, 2023.

FOR FURTHER INFORMATION CONTACT: For clarification of content, contact Mr. Curtis Hasuchildt, GSA Acquisition Policy Division, at 817-253-7858 or GSARPolicy@gsa.gov. For information pertaining to status or publication schedules, contact the Regulatory Secretariat Division at 202-501-4755 or GSARegsec@gsa.gov. Please cite GSAR Case 2022-G518.

SUPPLEMENTARY INFORMATION:

I. Background

The Paperwork Reduction Act of 1980 (44 U.S.C. 35, et seq.) imposes a requirement on Federal agencies to obtain approval from the Office of Management and Budget (OMB) before collecting information from 10 or more members of the public. The General Services Acquisition Regulation (GSAR) at 501.106 includes a table that identifies all OMB approved control numbers for GSA (3090 series) and the Federal Acquisition Regulation (FAR) (9000 series) that are applicable to GSA acquisition requirements. As part of the regulatory review process, GSA realized that the table required a correction to the listed OMB control number pertaining to GSAR clause 552.238-85.

Therefore, within the table at 501.106, GSA is correcting the OMB control number from 3090-0303 to OMB control numbers 3090-0235 and 3090-0306 specific to GSAR Clause 552.238-85.

II. Publication of This Final Rule for Public Comment Is Not Required by Statute

The statute that applies to the publication of the FAR is 41 U.S.C. 1707. Subsection (a)(1) of 41 U.S.C. 1707 requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment because the change is technical in nature and makes conforming updates to the title and number of a referenced policy document.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs (OIRA) in the Office of Management and Budget (OMB) has determined that this is not a significant regulatory action and, therefore, was not subject to review under Section 6(b) of Executive Order 12866, Regulatory Planning and Review, dated September 30, 1993.

IV. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. The General Services Administration will submit a report containing this rule and other required information to the U.S. Senate, the U.S. House of Representatives, and the Comptroller General of the United States. A major rule cannot take effect until 60 days after it is published in the Federal Register.

The Office of Information and Regulatory Affairs in the Office of Management and Budget has determined that this is not a major rule under 5 U.S.C. 804.

V. Regulatory Flexibility Act

The Regulatory Flexibility Act (5 U.S.C. 601 et seq.) does not apply to this rule, because an opportunity for public comment is not required to be given for this rule under 41 U.S.C. 1707(a)(1) (see Section II. of this preamble). Accordingly, no regulatory flexibility analysis is required and none has been prepared.

VI. Paperwork Reduction Act

The Paperwork Reduction Act does not apply because the changes to the GSAR do not impose recordkeeping or information collection requirements, or the collection of information from offerors, contractors, or members of the public that require the approval of the Office of Management and Budget under 44 U.S.C. 3501, et seq.

List of Subjects in 48 CFR Part 501

Government procurement.

Jeffrey A. Koses,
Senior Procurement Executive, Office of Acquisition Policy, Office of Government-wide Policy, General Services Administration.

Therefore, GSA amends 48 CFR part 501 as follows:

PART 501—GENERAL SERVICES ADMINISTRATION ACQUISITION REGULATION SYSTEM

1. The authority citation for 48 CFR part 501 continues to read as follows:

Authority: 40 U.S.C. 121(c).

2. In section 501.106, amend the table by revising the entry for “552.238-85” to read as follows:

501.106 OMB approval under the Paperwork Reduction Act.

* * * * *

GSAR reference | OMB control No.
* * * * *
552.238-85 | 3090-0235, 3090-0306
* * * * *

[FR Doc. 2023-16904 Filed 8-8-23; 8:45 am]

BILLING CODE 6820-61-P